DEPARTMENT OF ENERGY

Federal Energy Regulatory Commission

[Project No. 5867-054]

Alice Falls Hydro, LLC; Notice Soliciting Scoping Comments

Take notice that the following hydroelectric application has been filed with the Commission and is available for public inspection.

a. Type of Application: New Major License.

b. Project No.: 5867-054.

c. Date filed: September 29, 2021.

d. Applicant: Alice Falls Hydro, LLC (Alice Falls Hydro).

e. Name of Project: Alice Falls Hydroelectric Project (Alice Falls Project or project).

f. Location: The existing project is located on the Ausable River in the Town of Chesterfield, Clinton and Essex Counties, New York. The project does not occupy federal land.

g. Filed Pursuant to: Federal Power Act, 16 U.S.C. 791 (a)-825(r).

h. Applicant Contact: Jody Smet, Vice President, Regulatory Affairs, Eagle Creek Renewable Energy, LLC, 7315 Wisconsin Avenue, Suite 1100W, Bethesda, Maryland 20814; (804) 739-0654 or jody.smet@eaglecreekre.com.

i. FERC Contact: Chris Millard at (202) 502-8256, or email at christopher.millard@ferc.gov.

j. Deadline for filing scoping comments: December 17, 2022.¹

¹ The Commission's Rules of Practice and Procedure provide that if a deadline falls on a Saturday, Sunday, holiday, or other day when the Commission is closed for business, the deadline does not end until the close of business on the next business day. 18 CFR 385.2007(a)(2). Because the 30-day deadline falls on a Saturday (i.e., December 17, 2022), the deadline is extended until the close of business on Monday, December 19, 2022.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy via U. S. Postal Service to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Alice Falls Hydroelectric Project (P-5867-054).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The project consists of: (1) a stone masonry dam, 88 feet long and 63 feet high; (2) a 110-foot-long section of rock ledge adjacent to the dam with 2.5-foot-high pipe-supported flashboards; (3) a reservoir with a surface area of 4.8 acres at the normal water surface elevation of 350 feet; ² (4) a 110-foot-wide, 150-foot-long intake structure with a 41-foot-wide by 14-foot-high trash rack opening and fitted with a trash rack with 1-inch clear bar spacing; (5) a divided, 45-foot-long, reinforced concrete penstock, where the Unit 1 penstock is 18 feet wide by 12 feet high and the Unit 2 penstock is 10 feet wide by 12 feet high; (6) a powerhouse, approximately 34 feet wide and 26 feet long, containing two turbine-generator units of 1.5 megawatts (Unit 1) and 0.6 megawatt (Unit 2); (7) a substation, 51 feet wide and 88 feet long; (8) a 745-foot-long, 5-kilovolt (kV) buried generator lead and a 700-foot-long, 46-kV buried transmission line; and (9) appurtenant facilities.

² Elevation data are presented using the National Geodetic Vertical Datum of 1929.

The project is operated in a run-of-river mode, whereby outflow from the project approximates inflow. Project operation occurs remotely in an automatic control mode using a headpond level sensor and two sensors behind the project trash racks to maintain the reservoir elevation at about 350 feet. Normal operation occurs up to 358.5 feet, at which point project operation ceases and all inflow is spilled.³ The minimum and maximum hydraulic capacities of the project are 400 cfs and 840 cfs, respectively.

³ Reservoir elevations greater than 358.5 feet present a risk of damage to project structures due to an inability to safely remove debris, thus requiring project shutdown.

A continuous minimum flow of 25 cfs or inflow, whichever is less, is released over the spillway flashboards to Alice Falls year-round. An additional 125-cfs aesthetic flow (for a total flow of 150 cfs over Alice Falls), or inflow, whichever is less, is released daily from 8:00 a.m. to 3:00 p.m., Monday through Friday, from May 20 to September 8 when public recreation access is provided. A seasonal conveyance flow of 20 cfs or inflow, whichever is less, is continuously passed through the fish bypass facility from April 1 through November 30. When inflow to the reservoir is less than the scheduled combined minimum flow, Alice Falls Hydro releases 20 cfs from the fish bypass facility and any remaining flow is released over the spillway to Alice Falls.

m. In addition to publishing the full text of this notice in the Federal Register, the Commission provides all interested persons an opportunity to view and/or print the contents of this notice, as well as other documents in the proceeding (e.g., scoping document) via the internet through the Commission's Home Page (http://www.ferc.gov) using the “eLibrary” link. Enter the docket number, excluding the last three digits, in the docket number field to access the document (P-5867). For assistance, contact FERC at FERCOnlineSupport@ferc.gov or call toll-free, (866) 208-3676 or TYY, (202) 502-8659.

n. You may also register online at http://www.ferc.gov/docs-filing/esubscription.asp to be notified via email of new filings and issuances related to this or other pending projects. For assistance, contact FERC Online Support.

o. Scoping Process:

Commission staff will prepare either an environmental assessment (EA) or an environmental impact statement (EIS) that describes and evaluates the probable effects, if any, of the licensee's proposed action and alternatives. The EA or EIS will consider environmental impacts and reasonable alternatives to the proposed action. The Commission's scoping process will help determine the required level of analysis and satisfy the National Environmental Policy Act (NEPA) scoping requirements, irrespective of whether the Commission prepares an EA or an EIS. At this time, we do not anticipate holding on-site scoping meetings. Instead, we are soliciting written comments and suggestions on the preliminary list of issues and alternatives to be addressed in the NEPA document, as described in scoping document 1 (SD1), issued November 17, 2022.

Copies of SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: November 17, 2022.
Debbie-Anne A. Reese,
Deputy Secretary.

[FR Doc. 2022-25590 Filed 11-22-22; 8:45 am]

BILLING CODE 6717-01-P